COMMITTEE FOR PURCHASE FROM PEOPLE WHO ARE BLIND OR SEVERELY DISABLED

Procurement List; Addition and Deletions

AGENCY: Committee for Purchase From People Who Are Blind or Severely Disabled.

ACTION: Addition to and deletions from procurement list.

SUMMARY: This action adds to the Procurement List a service to be furnished by nonprofit agency employing persons who are blind or have other severe disabilities, and deletes from the Procurement List products and services previously furnished by such agencies.

DATES: Effective Date: 12/28/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Addition

On 9/18/2009 (74 FR 47926-47927), the Committee for Purchase From People Who Are Blind or Severely Disabled published notice of proposed addition to the Procurement List.

After consideration of the material presented to it concerning capability of qualified nonprofit agencies to provide the service and impact of the addition on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the service to the Government.

2. The action will result in authorizing small entities to provide the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Document Management, Portland Habilitation Center, 5312 NE 148th Avenue, Portland, OR.

NPA: Portland Habilitation Center, Inc., Portland, OR.

Contracting Activity: Department Of Agriculture, Forest Service, Gifford Pinchot National Forest, Vancouver, WA.

Deletions

On 9/11/2009 (74 FR 46748-46749) and 10/1/2009 (74 FR 50780-50781), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

NSN: 7530-00-989-0697—Card Set, Guide, File.

NSN: 7530-00-989-0683—Card Set, Guide, File.

NPA: Georgia Industries for the Blind, Bainbridge, GA.

Contracting Activity: GSA/FSS OFC SUP CTR—Paper Products, New York, NY.

NSN: 7520-00-NIB-1579—Tape Refill w/American Flag on the core.

NPA: The Lighthouse f/t Blind in New Orleans, New Orleans, LA.

Contracting Activity: GSA/FSS OFC SUP CTR—Paper Products, New York, NY.

NSN: 6840-01-378-0447—Air Rite Odor Counteractant, Green.

NSN: 6840-01-378-0412—Air Rite Odor Counteractant, Green Apple Mint.

NSN: 6840-00-NIB-0029—Air Rite Odor Counteractant, Vanilla Bean.

NSN: 6840-00-NIB-0028—Air Rite Odor Counteractant, Citrus.

NSN: 6840-00-NIB-0027—Air Rite Odor Counteractant, Floral.

NSN: 6840-00-NIB-0026—Air Rite Odor Counteractant, Sweet Pine.

NSN: 6840-00-NIB-0025—Air Rite Odor Counteractant, Spice.

NSN: 6840-00-NIB-0023—Air Rite Odor Counteractant, Honeysuckle.

NSN: 6840-00-NIB-0022—Air Rite Odor Counteractant, Spearmint.

NSN: 6840-00-NIB-0021—Air Rite Odor Counteractant, Blue.

NSN: 6840-00-NIB-0019—Air Rite Odor Counteractant, Red.

NSN: 6840-00-NIB-0018—Air Rite Odor Counteractant, Silver.

NSN: 6840-00-NIB-0016—Air Rite Odor Counteractant, Gold.

NPA: Blind Industries & Services of Maryland, Baltimore, MD.

Contracting Activity: GSA/FAS Southwest Supply Center (QSDAC), Fort Worth, TX.

NSN: 7510-01-219-5753, Ribbon, Lift-Off Dry.

NPA: Charleston Vocational Rehabilitation Center, Charleston Heights, SC.

Contracting Activity: GSA/FSS OFC SUP CTR—Paper Products, New York, NY.

NSN: 7920-00-292-2368, Broom, Upright.

NPA: Blind and Vision Rehabilitation Services of Pittsburgh, Pittsburgh, PA.

Contracting Activity: GSA/FAS Southwest Supply Center (QSDAC), Fort Worth, TX.

Services

Service Type/Location: Custodial, Griffin Street Auto Park, 404 S. Griffin Street, Dallas, TX.

NPA: The Arc of Caddo-Bossier, Shreveport, LA.

Contracting Activity: GSA/Public Buildings Service, Building Services Team, Fort Worth, TX.

Service Type/Location: Catering Service, Military Entrance Processing Station, Jackson, MS.

NPA: Goodwill Industries of Mississippi, Inc., Ridgeland, MS.

Contracting Activity: Dept of The Army, XR W6BB ACA Knox, FT Knox, KY.

Barry S. Lineback,
Director, Business Operations.

[FR Doc. E9-28426 Filed 11-25-09; 8:45 am]

BILLING CODE 6353-01-P